DEPARTMENT OF ENERGY

Federal Energy Regulatory Commission

Combined Notice of Filings #1

July 19, 2005.

Take notice that the Commission received the following electric rate filings.

Docket Numbers: ER01-3001-012.

Applicants: New York Independent System Operator, Inc.

Description: New York Independent System Operator, Inc. submitted an amended bi-annual compliance report regarding status of demand response programs and addition of new generation in New York, originally submitted on 6/2/05 in Docket No. ER01-3001-012.

Filed Date: 7/13/2005.

Accession Number: 20050713-5053.

Comment Date: 5 p.m. eastern time on Monday, July 25, 2005.

Docket Numbers: ER05-1079-001.

Applicants: Forest Investment Group, LLC.

Description: Forest Investment Group, LLC submits an amendment to its 6/6/05 market-based rate filing to include the change in status reporting requirement language adopted by the Commission in Order No. 652.

Filed Date: 7/13/2005.

Accession Number: 20050715-0160.

Comment Date: 5 p.m. eastern time on Monday, July 25, 2005.

Docket Numbers: ER05-1099-001.

Applicants: E Minus Energy Corporation.

Description: E Minus Energy Corporation submits an amendment to its 6/8/05 market-based rate filing to include the change in status reporting language adopted by the Commission in Order No. 652.

Filed Date: 7/13/2005.

Accession Number: 20050715-0154.

Comment Date: 5 p.m. eastern time on Monday, July 25, 2005.

Docket Numbers: ER05-1210-000; EL04-126-001.

Applicants: Consolidated Edison Company of New York Inc.; PSEG Power In-City I, LLC v. Consolidated Edison Company of New York, Inc.

Description: Consolidated Edison Company of New York, Inc. submits a withdrawal of its tariff filing dated 12/15/04 in Docket No. EL04-126-001 and submits a notice of cancellation of Service Agreement 316 under the New York Independent System Operator, Inc. FERC Open Access Transmission Tariff.

Filed Date: 7/6/2005.

Accession Number: 20050715-0156.

Comment Date: 5 p.m. eastern time on Wednesday, July 27, 2005.

Docket Numbers: ER05-1211-000.

Applicants: PJM Interconnection L.L.C.

Description: PJM Interconnection, L.L.C. submits revisions to Schedule 2 of the PJM Open Access Transmission Tariff to reflect the revenue requirement of Old Dominion Electric Cooperative for providing cost-based Reactive Support and Voltage Control from Generation Sources Service (Reactive Power) in the PJM region.

Filed Date: 7/14/2005.

Accession Number: 20050715-0151.

Comment Date: 5 p.m. eastern time on Thursday, August 4, 2005.

Docket Numbers: ER05-1216-000.

Applicants: Virginia Electric and Power Company.

Description: Virginia Electric and Power Company d/b/a Dominion Virginia Power submits two interconnection agreements, First Revised Service Agreement Nos. 1348 and 1349 under PJM Interconnection, L.L.C., FERC Electric Tariff, Sixth Revised Volume 1, to be effective 5/1/05.

Filed Date: 7/13/2005.

Accession Number: 20050718-0228.

Comment Date: 5 p.m. eastern time on Wednesday, August 3, 2005.

Docket Numbers: ER05-375-003; ER02-1582-004; ER02-2102-005; ER00-2885-006; ER01-2765-005

Applicants: Arroyo Energy LP; Mohawk River Funding IV, L.L.C.; Utility Contract Funding, L.L.C.; Cedar Brakes I, L.L.C.; Cedar Brakes II, L.L.C.

Description: Arroyo Energy LP, Mohawk River Funding IV, L.L.C., Utility Contract Funding, L.L.C., Cedar Brakes I, L.L.C. and Cedar Brakes II, L.L.C. submit their Triennial Market Power Analysis.

Filed Date: 7/14/2005.

Accession Number: 20050715-0204.

Comment Date: 5 p.m. eastern time on Thursday, August 4, 2005.

Docket Numbers: ER05-554-002.

Applicants: PacifiCorp.

Description: PacifiCorp submits an Amended and Restated Interconnection Agreement with Warm Springs Power Enterprises, originally filed on 2/4/05 and notification that it has entered into an Order No. 2003 complaint large generator interconnection agreement with Roseburg Forest Products, Inc.

Filed Date: 7/13/2005.

Accession Number: 20050715-0158.

Comment Date: 5 p.m. eastern time on Wednesday, August 3, 2005.

Docket Numbers: ER05-968-001.

Applicants: Basin Creek Equity Partners, LLC.

Description: Basin Creek Equity Partners, LLC, pursuant to the Commission's deficiency letter issued 7/11/05, submits an amendment to its 5/13/05 filing of an application for market-based rate authority and a request for a shortened comment period and expedited decision.

Filed Date: 7/14/2005.

Accession Number: 20050715-0175.

Comment Date: 5 p.m. eastern time on Friday, July 29, 2005.

Docket Numbers: ER94-1478-017.

Applicants: Electrade Corporation.

Description: Electrade Corporation submits its updated market power analysis pursuant to the Commission's 5/31/05 Order, 111 FERC 61,295 (2005), and a revised market-based rate schedule reflecting the Commission's Market Behavior rules adopted in Docket No. EL01-118, Investigation of Terms and Conditions of Public Utility Market-Based Rate Authorizations, 105 FERC 61,175 (2004) and the change in status reporting requirement adopted in Order No. 652.

Filed Date: 7/13/2005.

Accession Number: 20050715-0070.

Comment Date: 5 p.m. eastern time on Wednesday, August 3, 2005.

Docket Numbers: ER95-1018-008.

Applicants: Kohler Company.

Description: Kohler Company submits its updated market power analysis in compliance with the Order Announcing Policy on Non-Compliance with Conditions of Market-Based Rate Authority, Instituting Section 206 Proceeding and Establishing Refund Effective Date issued 5/31/05, 111 FERC 61,295.

Filed Date: 7/13/2005.

Accession Number: 20050715-0155.

Comment Date: 5 p.m. eastern time on Wednesday, August 3, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Linda Mitry,
Deputy Secretary.

[FR Doc. E5-3938 Filed 7-22-05; 8:45 am]

BILLING CODE 6717-01-P